ENVIRONMENTAL PROTECTION AGENCY

[FRL-9906-40-OEI]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et. seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or email at westlund.rick@epa.gov and please refer to the appropriate EPA Information Collection Request (ICR) Number.

SUPPLEMENTARY INFORMATION:

OMB Responses to Agency Clearance Requests

OMB Approvals

EPA ICR Number 1176.11; NSPS for New Residential Wood Heaters; 40 CFR part 60 subparts A and AAA; was approved on 01/02/2014; OMB Number 2060-0161; expires on 01/31/2017; Approved without change.

EPA ICR Number 1078.10; NSPS for Phosphate Rock Plants; 40 CFR part 60 subparts A and NN; was approved on 01/02/2014; OMB Number 2060-0111; expires on 01/31/2017; Approved without change.

EPA ICR Number 2355.03; Restructuring of Stationary Source Audit Program (Renewal); 40 CFR parts 51, 60 61 and 63; was approved on 01/02/2014; OMB Number 2060-0652; expires on 01/31/2017; Approved without change.

EPA ICR Number 2421.04; Conditional Exclusion from RCRA Definition of Hazardous Waste for Carbon Dioxide Streams Managed in UIC Class VI Wells for the Purpose of Geologic Sequestration (Final Rule); 40 CFR 261.4(h); was approved on 01/03/2014; OMB Number 2050-0207; expires on 01/31/2017; Approved without change.

EPA ICR Number 1063.12; NSPS for Sewage Sludge Treatment Plants; 40 CFR part 60 subparts A and O; was approved on 01/07/2014; OMB Number 2060-0035; expires on 01/31/2017; Approved without change.

EPA ICR Number 1158.11; NSPS for Rubber Tire Manufacturing; 40 CFR part 60 subparts A and BBB; was approved on 01/07/2014; OMB Number 2060-0156; expires on 01/31/2017; Approved without change.

EPA ICR Number 2072.05; NESHAP for Lime Manufacturing; 40 CFR part 63 subparts A and AAAAA; was approved on 01/22/2014; OMB Number 2060-0544; expires on 01/31/2017; Approved without change.

EPA ICR Number 1895.08; Revisions to the Total Coliform Rule (Final Rule); 40 CFR parts 141 and 142; was approved on 01/23/2014; OMB Number 2040-0205; expires on 08/31/2015; Approved without change.

EPA ICR Number 0193.11; NESHAP for Beryllium; 40 CFR parts 61 subpart A and C; was approved on 01/29/2014; OMB Number 2060-0092; expires on 01/31/2017; Approved without change.

Comment Filed

EPA ICR Number 2459.01; Performance-Based Measurement System for Fuels (Proposed Rule); in 40 CFR part 80; OMB filed comment on 01/03/2014.

John Moses,
Director, Collections Strategies Division.

[FR Doc. 2014-03335 Filed 2-14-14; 8:45 am]

BILLING CODE 6560-50-P